SOCIAL SECURITY ADMINISTRATION

Statement of Organization, Functions and Delegations of Authority

This statement amends Part S of the Statement of the Organization, Functions and Delegations of Authority, which covers the Social Security Administration (SSA). This notice moves the Chief Information Officer from the immediate Office of the Commissioner and establishes the Office of the Chief Information Officer. The new material and changes are as follows:

Section SA.20 Office of the Commissioner—(Functions)

Delete from

A.

The Chief Information Officer is also located in the immediate Office of the Commissioner and reports directly to the Commissioner on statutorily defined CIO duties and as a key advisor to the Deputy Commissioner of Social Security.

Section S.10 The Social Security Administration—(Organization):

Add

M. The Office of the Chief Information Officer

Add

Subchapter TH

The Office of the Chief Information Officer

TH.00 Mission

TH.10 Organization

TH.20 Functions

Section TH.00 The Office of the Chief Information Officer—(Mission)

The Office of the Chief Information Officer (OCIO) develops the Information Resource Management Plan and defines the Information Technology (IT) vision and strategy for the Social Security Administration. The Office shapes the application of technology in support of the Agency's Strategic Plan including the Information Technology Architecture that outlines the long term Strategic Architecture and Systems Plans for the Agency and includes Agency IT Capital Planning. The OCIO supports and manages pre and post implementation reviews of major IT programs and projects as well as project tracking at critical review points. The OCIO provides oversight of major IT acquisitions to ensure they are consistent with Agency architecture and with the IT budget, and is responsible for the development of Agency IT security policies. The Office directs the realization of the Agency's Information Technology Architecture to guarantee architecture integration, design consistency, and compliance with federal standards, works with other Agencies on government-wide projects such as e-GOVERNMENT, and develops long range planning for IT Human Resource Strategies.

Section TH.10 The Office of the Chief Information Officer—(Organization)

The Office of the Chief Information Officer, under the leadership of the Chief Information Officer includes:

A. The Chief Information Officer

B. The Immediate Office of the Chief Information Officer

C. The Office of Information Technology Systems Review

D. The Office of Information Technology Security Policy

Section TH.20 The Office of the Chief Information Officer—(Functions)

A. The Chief Information Officer is directly responsible to the Commissioner for carrying out the OCIO mission and providing general supervision to the major components of the OCIO. The CIO is a member of the Federal CIO Council. The Deputy Chief Information Officer assists the Chief Information Officer in carrying out his/her responsibilities.

B. The Immediate Office of the Chief Information Officer provides the CIO with management support on the full range of his/her responsibilities. Other duties include the coordination and preparation of reports on a variety of IT projects, the Information Resource Management Plan, and enterprise IT Architecture. The Office is responsible for Agency compliance with legislation, OMB directives and GAO guidance concerning IT capital and investment control and for issuance of Agency procedures in this area. It also designates a member to serve on the Architecture Review Board (ARB). The CIO will select the chair of the ARB.

C. The Office of Information Technology Systems Review serves as the principal independent source of advice to the Information Technology Advisory Board, the SSA Chief Financial Officer, and the CIO on the feasibility, suitability, and conformance to regulations of proposed systems plans and acquisitions, on proposed systems design and requirement specifications, and on all other systems strategies and related issues. It reviews the proposed Information Technology Systems (ITS) budget and Agency Procurement Requests for adequacy, clarity, cost-effectiveness, achievability, consistency with Agency plans, and to ensure that project objectives are realistic and complete. It conducts technical reviews of the functional requirements and design specifications of all ITS hardware and software systems to ensure their sufficiency and compliance with applicable policies, procedures, and Agency plans. The Office conducts in-process reviews of systems, planned implementation strategies, contracts, interagency agreements, and other ongoing work in the systems area to determine compliance with Agency decisions and plans and monitors significant ITS projects to ensure that Agency objectives and timeframes are met. The Office conducts Information Management reviews, maintains the Agency ITS budget projects accounting data base, and provides the CIO and Commissioner with regular status reports on the execution of the Agency's ITS budget.

D. The Office of Information Technology Security Policy is responsible for directing and managing SSA's overall information systems security program. This includes the development of SSA's security policy requirements and the effective implementation of other governing directives. It guides SSA-wide security awareness programs for management and employees on security policy/requirements. The Office is also responsible for setting policy for developing and implementing security requirements/safeguards for SSA's state information exchange program and leading and coordinating physical security policy.

Dated: July 1, 2002.
Jo Anne B. Barnhart,
Commissioner.

[FR Doc. 02-17382 Filed 7-10-02; 8:45 am]

BILLING CODE 4191-02-P